CORPORATION FOR NATIONAL AND COMMUNITY SERVICE

Agency Information Collection Activities; Submission to the Office of Management and Budget for Review and Approval; Comment Request; Current Population Survey Civic Engagement and Volunteering Supplement

AGENCY: Corporation for National and Community Service.

ACTION: Notice of information collection; request for comment.

SUMMARY: The Corporation for National and Community Service, operating as AmeriCorps, has submitted a public information collection request (ICR) entitled Current Population Survey Civic Engagement and Volunteering Supplement (CEV) for review and approval in accordance with the Paperwork Reduction Act.

DATES: Written comments must be submitted to the individual and office listed in the ADDRESSES section by August 7, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Laura Hanson Schlachter, Ph.D., at (202) 948-7407 or by email to LSchlachter@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on Thursday, March 30, 2023 at 88 FR 19094. This comment period ended May 30, 2023. Four public comments were received from this Notice. Commenters' primary concerns were related to the reduction in the number of questions regarding formal volunteering activity in the CEV relative to the previous volunteering supplement. AmeriCorps agrees that reinstating questions about types of volunteer organizations and activities would generate valuable knowledge. Although Census policy does not allow AmeriCorps to add these kinds of lengthy questions to the CEV at this time, we have included them in this clearance package in the event that Census recommendations change and resources allow them to be reinstated in future rounds of data collection.

Title of Collection: Current Population Survey Civic Engagement and Volunteering Supplement.

OMB Control Number: 3045-0139. Type of Review: Revision of an Existing Collection.

Respondents/Affected Public: Individuals and Households.

Total Estimated Number of Annual Responses: 30,000.

Total Estimated Number of Annual Burden Hours: 3,335.

Abstract: AmeriCorps is soliciting comments concerning proposed revision of its Current Population Survey Volunteering and Civic Engagement Supplement. Since 2002, AmeriCorps has partnered with the U.S. Census Bureau and the Bureau of Labor Statistics to collect data and produced annual volunteering reports, and is mandated by the Serve America Act of 2009 to produce an annual civic health assessment in partnership with the National Conference on Citizenship. Reports, tables, and data for Volunteering and Civic Life in America (VCLA) are made public on americorps.gov, and specialized tables are made available upon request.

The proposed survey will be the only source of nationally representative data on the number of Americans who are active in their communities, through volunteering, social interactions, and civic behaviors. These measures include formal volunteering in an organization; a person's interactions with family, friends and neighbors; participation in community events; informal interactions; communication with one another on issues of public concern; and interactions with public and private institutions.

AmeriCorps seeks to renew the current information collection with revisions that are intended to enhance the survey. The information collection will otherwise be used in the same manner as the existing collection. AmeriCorps also seeks to continue using the current survey until the revised survey is approved by OMB. The current survey is due to expire on November 30, 2023.

Mary Hyde,
Director, Office of Research and Evaluation.

[FR Doc. 2023-14315 Filed 7-6-23; 8:45 am]

BILLING CODE 6050-28-P